DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0006).

SUMMARY: To comply with the Paperwork Reduction Act of 1995 (PRA), we are submitting to OMB for review and approval an information collection request (ICR) titled “30 CFR Part 256, Leasing of Sulphur or Oil and Gas in the Outer Continental Shelf.” We are also soliciting comments from the public on this ICR.

DATES: Submit written comments by March 9, 2001.

ADDRESSES: You may submit comments directly to the Office of Information and Regulatory Affairs, OMB, Attention: Desk Officer for the Department of the Interior (1010-0006), 725 17th Street, NW., Washington, DC 20503. Mail or hand carry a copy of your comments to the Department of the Interior, Minerals Management Service, Attention: Rules Processing Team, Mail Stop 4024, 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR Part 256, Leasing of Sulphur or Oil and Gas in the Outer Continental Shelf.

OMB Control Number: 1010-0006.

Abstract: The Outer Continental Shelf (OCS) Lands Act, as amended, 43 U.S.C. 1331 et seq., requires the Secretary of the Interior to preserve, protect, and develop offshore oil and gas resources; to make such resources available to meet the Nation's Energy needs as rapidly as possible; to balance orderly energy resource development with protection of the human, marine, and coastal environments; to ensure the public a fair and equitable return on the resources of the OCS; and to preserve and maintain free enterprise competition. The Energy Policy and Conservation Act of 1975 (EPCA) prohibits certain lease bidding arrangements (42 U.S.C. 6213 (c)).

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those that accrue to the public at large. Instruments of transfer of a lease or interest are subject to cost recovery, and MMS regulations specify filing fees for these transfer applications.

Responses are required to obtain or retain a benefit. No questions of a “sensitive” nature are asked. The individual responses to Calls for Information are the only information collected involving the protection of confidentiality. MMS protects specific individual replies from disclosure as proprietary information according to section 26 of the OCS Lands Act and 30 CFR 256.10(d).

MMS uses the information to determine if applicants are qualified to hold leases in the OCS and specifically to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the EPCA.

• Ensure the qualification of assignees. Once a lease is awarded, the transfer of a lessee's interest to another qualified party must be approved by an MMS regional director.

• Obtain information and nominations on oil and gas leasing, exploration, and development and production. Early planning and consultation ensure that all interests and concerns are communicated to us for future decisions in the leasing process.

• Document that a leasehold or geographical subdivision has been surrendered by the record title holder.

• Verify that lessee's have adequate bonding coverage. Respondents must submit their bonds certification forms: Form MMS-2028, Outer Continental Shelf Mineral Lessee's and Operator's Bond and Act of Suretyship,” and Form MMS-2028A, “Outer Continental Shelf Mineral Lessee's and Operator's Supplemental Plugging & Abandonment Bond and Act of Suretyship.” We use these documents to hold the surety libel for the obligations and liability of the principal/lessee or operator.

With respect to the forms MMS-2028 and MMS-2028A, the currently approved forms are not written in “plain language.” In keeping with the current policy, MMS is revising these forms in plain language and the revised forms are undergoing legal and management review. The revised forms will not contain any new data elements requesting information from respondents. In the interim, as part of our ICR on 30 CFR part 256, we are asking OMB to renew the current version of the forms, but intend to supersede them with the plain language forms upon legal and management approval of the revised wording.

Frequency: The frequency of reporting is “on occasion.”

Estimated number and description of respondents: Approximately 130 Federal OCS oil and gas or sulphur lessees, as well as the affected states and local governments.

Estimated annual reporting and recordkeeping “hour” burden: The estimated “hour” burden for this information collection is a total of 16,329 hours. The following chart provides a breakdown of the requirements and burden hours.

Burden Breakdown
Citation 30 CFR part 256 | Reporting requirement | Annual number | Burden hour(s) per response | Annual burden hours | Annual hour burden cost
Subparts A, C, E, H, L, M | None | Not applicable. |  | 0 | 0
Subparts G, H, I, J: 256.37, 256.53, 256.68, 256.70, 256.71, 256.72, 256.73 | Request approval for various operations or submit plans or applications | Burden included with other approved collections in 30 CFR part 250. |  | 0 | 0
Subpart B: 256.16, 256.17, 250.20. Subpart D: All sections | Submit response to request/call for information, comments, and interest in areas for mineral leasing, including information from States/local governments | 5 responses | 4 | 20 | @ $50 = $1,000
Subpart F: 256.31 | States or local governments submit recommendations on size, timing or location of proposed lease sale | 10 responses | 4 | 40 | @ $50 = $2,000
Subpart G:
256.35, 256.46(d), (e) | Establish a Company File for pre-qualification purposes; submit updated information | 100 responses | 2 | 200 | @ $100 = $20,000
256.41, 256.43, 256.46(g) | Submit qualification of bidders for joint bids and statement or report of production | 200 responses | 4½ | 900 | @ $50 = $45,000
256.45, 256.46 | Submit bids and required information | 2,000 bids | 5 | 10,000 | @ $100 = $1,000,000
256.47(c) | File agreement to accept joint lease on tie bids | 2 agreements | 3½ | 7 | @ $50 = $350
256.47(e)(1), (e)(3) | Request for reconsideration of bid rejection | Exempt as defined in 5 CFR 1320.3(h)(9). |  | 0 | 0
256.47(f), 256.50 | Execute lease (includes submission of evidence of authorized agent and request for dating of leases) | 630 leases | 1 | 630 | @ $100 = $63,000
Subpart I:
256.54 | OCS Lessee's and Operator's Bond and Act of Suretyship (form MMS-2028) | 205 forms | ¼ | *51 | @ $100 = $5,100
256.54 | OCS Lessee's and Operator's Supplemental Plugging & Abandonment Bond and Act of Suretyship (form MMS-2028A) | 130 forms | ¼ | *33 | @ $100 = $3,300
256.52(f)(2), (g)(2) | Submit authority for Regional Director to sell Treasury or alternate type of securities | 5 submissions | 2 | 10 | @ $100 = $1,000
256.53(c), (d), (f); 256.54(d)(3) | Demonstrate ability to carry out present and future financial obligations, request approval of another form of security, or request reduction in amount of supplemental bond required | 162 submissions | 2½ | 405 | @ $100 = $40,500
256.55(b) | Notify MMS of action filed alleging lessee, surety, or guarantor are insolvent or bankrupt | 2 notices | ½ | 1 | @ $100 = $100
256.56 | Provide plan to fund lease-specific abandonment account and related information; request approval to withdraw funds | 4 submissions | 11 | 44 | @ $50 = $2,200
256.57 | Provide third-party guarantee, indemnity agreement, related notices, and annual update | 12 submissions | 16½ | 198 | @ $50 = $9,900
256.57(d)(3), 256.58 | Notice of and request approval to terminate period of liability, cancel bond, or other security | 280 requests | ½ | 140 | @ $50 = $7,000
256.59(c)(2) | Provide information to demonstrate lease will be brought into compliance | 3 responses | 14 | 42 | @ $50 = $2,100
Subpart J:
256.62, 256.64, 256.65, 256.67 | File application for assignment or transfer for approval | 1,845 applications | 1 | 1,845 | @ $50 = $92,250
256.64(a)(7) | File required instruments creating or transferring working interests, etc., for record purposes | 2,915 filings | ½ | *1,458 | @ $50 = $72,900
256.64(a)(8) | Submit non-required documents for record purposes which respondents want MMS to file with the lease document | Accepted on behalf of lessees as a service, but MMS does not require nor need the filings. |  | 0 | 0
Subpart K: 256.76 | File written request for relinquishment | 305 relinquishments | 1 | 305 | @ $50 = $15,250
Total Reporting | 8,815 Responses | 16,329 | $1,382,950
* Rounded.

Estimated Annual Reporting and Recordkeeping “Non-Hour Cost” Burden: The estimated “non-hour cost” burden for this information collection is a total of $414,450. This cost burden is for filing fees associated with submitting requests for approval of instruments of transfer ($185 per application) or to file non-required documents for record purposes ($25 per filing) according to § 256.64(a)(8).

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on October 11, 2000, we published a Federal Register notice (65 FR 60449) with the required 60-day comment period announcing that we would submit this ICR to OMB for approval. In addition, § 256.0 and the PRA statement on the MMS forms display the OMB control number, specify that the public may comment at anytime on the collection of information required in the 30 CFR part 256 regulations and forms, and provide the address to which they should send comments. We have received no comments in response to those efforts. We also consulted with several respondents and adjusted some of the information collection burdens as a result of those consultations.

If you wish to comment in response to this notice, send your comments directly to the offices listed under the ADDRESSES section of this notice. The OMB has up to 60 days to approve or disapprove the information collection but may respond after 30 days. Therefore, to ensure maximum consideration, OMB should receive public comments by March 9, 2001.

MMS Information Collection Clearance Officer: Jo Ann Lauterbach, (202) 208-7744.

Dated: January 23, 2001.
E.P. Danenberger,
Chief, Engineering and Operations Division.

[FR Doc. 01-3201 Filed 2-6-01; 8:45 am]

BILLING CODE 4310-MR-P